DEPARTMENT OF LABOR

Employment and Training Administration

[TA-W-38, 427]

M.H. Rhodes (Now Known as Cramer Company, Division of Chestnut Group, Inc.) Avon, CT; Amended Certification Regarding Eligibility To Apply for Worker Adjustment Assistance

In accordance with section 223 of the Trade Act of 1974 (19 USC 2273) the Department of Labor issued a Certification of Eligibility to Apply for Worker Adjustment Assistance on August 9, 2001, applicable to workers of M.H. Rhodes, Avon, Connecticut. The notice was published in the Federal Register on August 23, 2001 (66 FR 44378).

At the request of the State agency, the Department reviewed the certification for workers of the subject firm. The workers are engaged in the production of meters and timers. New information received from the company shows that in September, 2001, M.H. Rhodes, Cramer Company was sold to the Chestnut Group, Inc. and became known as Cramer Company, Division of Chestnut Group, Inc.

Information also shows that workers separated from employment at the subject firm had their wages reported under a separate unemployment insurance (UI) tax account for M.H. Rhodes, now known as Cramer Company, Division of Chestnut Group, Inc.

Accordingly, the Department is amending the certification to properly reflect this matter.

The amended notice applicable to TA-W-38, 427 is hereby issued as follows:

All workers of Cramer Company, Division of Chestnut Group, Inc., (formerly M.H., Rhodes), Avon, Connecticut who became totally or partially separated from employment on or after December 1, 1999, through August 9, 2003, are eligible to apply for adjustment assistance under section 223 of the Trade Act of 1974.

Signed at Washington, DC, the 16th day of October 2001.
Linda G. Poole,
Certifying Officer, Division of Trade Adjustment Assistance.

[FR Doc. 01-27247 Filed 10-29-01; 8:45 am]

BILLING CODE 4510-30-M